DEPARTMENT OF LABOR

Employment and Training Administration

[TA-W-70,864]

Western/Scott Fetzer Company, Avon Lake, OH; Notice of Termination of Investigation

Pursuant to Section 223 of the Trade Act of 1974, as amended, an investigation was initiated in response to a petition filed on June 2, 2009, on behalf of workers of Western/Scott Fetzer Company, Avon Lake, Ohio.

The petition regarding the investigation has been deemed invalid. The petitioner was a former company official, but not at the time of the filing of this petition.

Consequently, the investigation has been terminated.

Signed at Washington, DC, this 10th day of July 2009.
Linda G. Poole,
Certifying Officer, Division of Trade Adjustment Assistance.

[FR Doc. E9-18051 Filed 7-28-09; 8:45 am]

BILLING CODE 4510-FN-P